DEPARTMENT OF ENERGY

Federal Energy Regulatory Commission

[Docket No. EL03-7-000, et al.]

Cities of Anaheim, et al.; Electric Rate and Corporate Regulation Filings

October 10, 2002.

The following filings have been made with the Commission. The filings are listed in ascending order within each docket classification.

1. Cities of Anaheim, Azusa, Banning, and Riverside, California

[Docket No. EL03-7-000]

Take notice that on October 4, 2002, the Cities of Anaheim, Azusa, Banning, and Riverside, California (Southern Cities) filed a Petition for Declaratory Order, Request for Expedited Procedures, and Request for Waiver of Filing Fee. Southern Cities seek a determination of the propriety of a withdrawal provision in the Transmission Control Agreement that will enable them to participate in the California ISO as Participating Transmission Owners.

Comment Date: October 31, 2002.

2. LMB Funding, Limited Partnership

[Docket No. EL03-8-000]

Take notice that on October 4, 2002, LMB Funding, Limited Partnership (Petitioner) filed a Petition for Declaratory Order Disclaiming Jurisdiction and Request for Expedited Consideration. Petitioner is seeking a disclaimer of jurisdiction in connection with a lease financing involving a generating plant of approximately 600 MW to be located in Lower Mount Bethel Township, Northampton County, Pennsylvania.

Comment Date: November 4, 2002.

3. Westar Generating, Inc.

[Docket Nos. ER01-1305-004]

Take notice that on October 7, 2002, in compliance with the Commission's September 5, 2002. Order Conditionally Approving Uncontested Settlement, 100 FERC 61,255 (2002), in the above-referenced dockets, Westar Generating, Inc. (Westar) submitted a new Order 614 designation for the Purchase Power Agreement between Westar and Western Resources, Inc. (Western), and changes to Section 3.2 of Article III of the Settlement Agreement as required by the Order in the above-referenced proceedings.

A copy of this filing was served on every participant to the proceedings.

Comment Date: October 28, 2002.

4. Southwest Power Pool, Inc.

[Docket Nos. ER02-1705-003]

Take notice that on October 7, 2002, Southwest Power Pool, Inc. (SPP) submitted for filing the compliance filing required by the Federal Energy Regulatory Commission's September 5, 2002 issued in the proceeding listed above. Southwest Power Pool, Inc., 100 FERC 61,248.

Comment Date: October 28, 2002.

5. Duke Energy Corporations

[Docket No. ER02-2008-002]

Take notice that on October 7, 2002, in compliance with the Commission's order in Docket Nos. ER02-2008-000 and ER02-2008-001 issued September 5, 2002, Duke Energy Corp., 100 FERC 61,251, Duke Energy Corporation, on behalf of Duke Electric Transmission, filed a revised Interconnection and Operating Agreement by and between Duke Electric Transmission and GenPower Anderson, LLC. The Interconnection and Operating Agreement was made effective as of September 9, 2002 by the Commission.

Comment Date: October 28, 2002.

6. New England Power Pool and ISO New England Inc.

[Docket Nos. ER02-2330-001 and EL00-62-052]

Take notice that on October 7, 2002, New England Power Pool and ISO New England Inc. tendered for filing with the Federal Energy Regulatory Commission (Commission) a Compliance Filing in response to the Commission's September 20, 2002 Order issued in the above proceedings. Copies of these materials were sent to the NEPOOL Participants, Non-Participant Transmission Customers and the New England state governors and regulatory commission.

Comment Date: October 28, 2002.

7. Pinnacle West Capital Corporation

[Docket No. ER02-2385-001]

Take notice that on October 8, 2002, Pinnacle West Capital Corporation (PWCC) tendered for filing a refund report for the time value of revenues received from Phelps Dodge Energy Services (PDES).

A copy of this filing has been served on PDES.

Comment Date: October 29, 2002.

8. Westar Energy, Inc.

[Docket No. ER03-9-001]

Take notice that on October 8, 2002, Westar Energy, Inc. (Westar Energy) filed an errata to its Notification of Change in Status and Petition for Acceptance of Revised Market Rate Schedules. The errata corrects the proposed tariff sheets to comply with Order No. 614.

Comment Date: October 29, 2002.

9. El Paso Electric Company

[Docket No.ER03-23-000]

Take notice that on October 8, 2002, El Paso Electric Company (EPE) tendered for filing eight umbrella service agreements for firm transmission service, two umbrella service agreements for non-firm transmission service, and seven service agreements and accompanying specification sheets for firm transmission service transactions of exactly one year (collectively, TSAs) between EPE and nine of its customers. The rates, terms, and conditions of the TSAs are those of EPE's Open Access Transmission Tariff (OATT). EPE seeks effective dates for the TSAs in accordance with their service commencement dates.

Comment Date: October 29, 2002.

10. Los Esteros Critical Energy Facility, LLC

[Docket No. ER03-24-000]

Take notice that on October 8, 2002, Los Esteros Critical Energy Facility, LLC (Los Esteros) tendered for filing, under section'205 of the Federal Power Act, a request for authorization to make wholesale sales of electric energy, capacity and ancillary services at market-based rates, to reassign transmission capacity, and to resell firm transmission rights. Los Esteros proposes to own and operate an approximately 180 megawatt simple cycle natural gas-fired generation facility located in Santa Clara County, California.

Comment Date: October 29, 2002.

11. Blue Spruce Energy Center, LLC

[Docket No. ER03-25-000]

Take notice that on October 8, 2002, Blue Spruce Energy Center, LLC (the Applicant) tendered for filing, under section 205 of the Federal Power Act (FPA), a request for authorization to make wholesale sales of electric energy, capacity, replacement reserves, and ancillary services at market-based rates, to reassign transmission capacity, and to resell firm transmission rights. Applicant proposes to own and operate a 300 MW gas fired, simple cycle electric generating facility in Aurora, Colorado.

Comment Date: October 29, 2002.

12. Wisconsin Electric Power Company

[Docket No. ER03-26-000]

Take notice that on October 8, 2002, Wisconsin Electric Power Company (Wisconsin Electric) tendered for filing revisions to the Wisconsin Corporation Operating Companies (WEC Operating Companies) Joint Ancillary Services Tariff. (WEC Operating Companies FERC Electric Tariff, Original Volume No. 2)

Wisconsin Electric respectfully requests an effective date October 15, 2002.

Comment Date: October 29, 2002.

13. Edison Sault Electric Company

[Docket No. ES03-3-000]

Take notice that on October 2, 2002, Edison Sault Electric Company (Edison Sault) filed an application pursuant to section 204 of the Federal Power Act seeking authorization to issue, over a two-year period, long-term and short-term debt to its parent company, Wisconsin Energy Corporation, and/or short term debt to other third-party lenders, with no more than $50 million outstanding at any one time.

Edison Sault also requests a waiver of the Commission's competitive bidding and negotiated placement requirements at 18 CFR 34.2.

Comment Date: October 23, 2002.

Standard Paragraph

Any person desiring to intervene or to protest this filing should file with the Federal Energy Regulatory Commission, 888 First Street, NE, Washington, DC 20426, in accordance with rules 211 and 214 of the commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-27928 Filed 11-1-02; 8:45 am]

BILLING CODE 6717-01-P